PRESIDIO TRUST

Notice of Public Meeting

AGENCY: The Presidio Trust.

ACTION: Notice of public meeting.

SUMMARY: In accordance with § 103(c)(6) of the Presidio Trust Act, 16 U.S.C. 460bb appendix, and in accordance with the Presidio Trust's bylaws, notice is hereby given that a public meeting of the Presidio Trust Board of Directors will be held commencing 6:00 p.m. on Thursday, March 23, 2017, at the Officers' Club, 50 Moraga Avenue, Presidio of San Francisco, California. The Presidio Trust was created by Congress in 1996 to manage approximately eighty percent of the former U.S. Army base known as the Presidio, in San Francisco, California, as a national site.

The purposes of this meeting are to take action on the minutes of previous Board meetings; to provide the Chairperson's report; to receive reports from Board members; to provide the Chief Executive Officer's report; to discuss the Presidio Trust's proposed goals for the next five years and to gather public input on those priorities and ways to achieve them; to receive a recommendation from the Presidio Institute Advisory Council on the use of Fort Scott; and to receive public comment.

Individuals requiring special accommodation at this meeting, such as needing a sign language interpreter, should contact Mollie Matull at 415.561.5300 prior to March 16, 2017.

DATES and TIME: The meeting will begin at 6:00 p.m. on Thursday, March 23, 2017.

ADDRESSES: The meeting will be held at the Officers' Club, 50 Moraga Avenue, Presidio of San Francisco.

FOR FURTHER INFORMATION CONTACT: Nancy Koch, General Counsel, the Presidio Trust, 103 Montgomery Street, P.O. Box 29052, San Francisco, California 94129-0052, Telephone: 415.561.5300.

Dated: February 22, 2017.
Nancy J. Koch,
General Counsel.

[FR Doc. 2017-03854 Filed 2-27-17; 8:45 am]

BILLING CODE 4310-4R-P